DEPARTMENT OF LABOR

Employment and Training Administration

[TA-W-53,263]

Thomson, Inc., Indianapolis, IN; Notice of Termination of Investigation

Pursuant to section 221 of the Trade Act of 1974, as amended, an investigation was initiated on October 16, 2003 in response to a petition filed by International Brotherhood of Electrical Workers, Local 1048, on behalf of workers at Thomson, Inc., Indianapolis, Indiana.

The petitioner has requested that the petition be withdrawn. Consequently, the investigation has been terminated.

Signed at Washington, DC, this 24th day of October 2003.
Richard Church,
Certifying Officer, Division of Trade Adjustment Assistance.

[FR Doc. 03-30085 Filed 12-2-03; 8:45 am]

BILLING CODE 4510-30-P